DEPARTMENT OF DEFENSE

Department of the Army, Corps of Engineers

Withdrawal of the Notice of Intent To Prepare an Environmental Impact Statement (EIS) for the New York New Jersey Harbor and Tributaries (NYNJHAT) Coastal Storm Risk Management Feasibility Study

AGENCY: U.S. Army Corps of Engineers, DOD.

ACTION: Notice of Intent; withdrawal.

SUMMARY: The U.S. Army Corps of Engineers, New York District, Planning Division is notifying interested parties that it is withdrawing the Notice of Intent (NOI) to develop an EIS for the NYNJHAT Coastal Storm Risk Management (CSRM) Feasibility Study. The NOI to Prepare an EIS was published in the Federal Register on January 13, 2020.

ADDRESSES: U.S. Army Corps of Engineers, New York District, 26 Federal Plaza, New York, NY 10278.

FOR FURTHER INFORMATION CONTACT: Questions regarding the withdrawal of this NOI should be addressed to Cheryl R. Alkemeyer, NEPA Lead, Environmental Analysis Branch, Watershed Section, Planning Division, U.S. Army Corps of Engineers, New York District. Mail: Cheryl R. Alkemeyer, USACE Planning Environmental 17-421 c/o PSC Mail Center, 26 Federal Plaza, New York, NY 10278; phone: (917) 790- 8723; email: Cheryl.R.Alkemeyer@usace.army.mil.

SUPPLEMENTARY INFORMATION: The NOI to prepare an EIS for the NYNJHAT CSRM Feasibility Study was published in the Federal Register on January 13, 2020 (85 FR 1807). The NYNJHAT CSRM Feasibility Study did not receive federal funding in the fiscal (FY) 2020 Work Plan (published Feb. 10, 2020), nor in the Administration's proposed FY2021 budget. Under Executive Order 13807 titled “Establishing Discipline and Accountability in the Environmental Review and Permitting Process for Infrastructure Projects”, a goal was set for agencies to reduce the time for completing environmental reviews and authorization decisions to an agency average of not more than two years from publication of a NOI to prepare an EIS. Therefore, in order to align with E.O. 13807, it is necessary to withdraw the existing NOI to develop and re-scope a NEPA coordination/review schedule with the appropriate Federal and state resource agencies that have statutory jurisdiction over the review process for any action being contemplated in the course of the feasibility study and development of an environmental impact statement. Any future Federal-aided action associated with this Study will comply with the environmental review requirements of the National Environmental Policy Act (NEPA) (42 U.S.C. 4321 et seq.) and related authorities, as appropriate. Comments and questions concerning this action should be directed to U.S. Army Corps of Engineers at the address provided above.

Study Website: Pertinent information about the study can be found at: http://www.nan.usace.army.mil/Missions/Civil-Works/Projects-in-New-York/New-York-New-Jersey-Harbor-Tributaries-Focus-Area-Feasibility-Study/.

Dated: May 22, 2020.
Karen J. Baker,
Programs Director, North Atlantic Division.

[FR Doc. 2020-11673 Filed 5-29-20; 8:45 am]

BILLING CODE 3720-58-P